DEPARTMENT OF HEALTH AND HUMAN SERVICES

Centers for Disease Control and Prevention

[60Day-06-06BH]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Performance Measures of the Cooperative Agreement Readiness Assessment Tool (CARAT) for the CDC Division of State and Local Readiness (DSLR)—New—Coordinating Office of Terrorism Preparedness and Emergency Response (COTPER), Centers for Disease Control and Prevention (CDC).

Background and Brief Description

The CARAT is a program performance monitoring tool developed by DSLR's Outcome Monitoring and Evaluation Branch in cooperation with CDC subject matter experts and external partners. The nomenclature to differentiate CARAT's data collection (reporting) periods is: CARAT-Annual, CARAT-Semi-annual, and CARAT-Quarterly. CARAT-Semi-annual and CARAT-Quarterly are independent subsets of CARAT-Annual reports. Specifically, the data collected will be used to monitor grantees' performance as it relates to the goals and intent of the cooperative agreement, and to determine the technical assistance that may be needed, specific to each grantee. Additionally, the data will be used to report the program's readiness status as well as prepare individual and aggregate readiness reports for: Congress, State departments, Federal agencies and officials as necessary.

Cooperative agreement recipients will report their data to the Division of State and Local Readiness in the Center for Terrorism Preparedness and Emergency Response at CDC through the State and Local Preparedness Program Management Information System (SLPPMIS). This system uses a secure web browser-based technology for data entry and data management. The data will be collected and entered by administrative/management personnel from each cooperative agreement recipient. The table below shows the estimated annual burden in hours to collect and report data. There is no cost to the respondents other than their time.

Estimated Annualized Burden Hours
Title | Number of respondents | Number of responses/ respondent | Burden per response (in hrs.) | Total burden (hours)
DSLR-SLPMISS Application/Annual Survey | 62 | 1 | 23 | 1426
DSLR-SLPMISS Application/Semi-annual Survey (1 per year) * | 62 | 1 | 18 | 1116
DSLR-SLPMISS Application/Quarterly Survey (4 per year) | 62 | 4 | 4 | 992
Total |  |  |  | 3534
* Once per year between the annual survey.

Dated: June 20, 2006.
Joan F. Karr,
Acting Reports Clearance Officer, Centers for Disease Control and Prevention.

[FR Doc. E6-10027 Filed 6-23-06; 8:45 am]

BILLING CODE 4163-18-P